DEPARTMENT OF HEALTH AND HUMAN SERVICES

Centers for Disease Control and Prevention

[30Day-16-15AUJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Paul Coverdell National Acute Stroke Program (PCNASP)—New—National Center for Chronic Disease Prevention and Health Promotion (NCCDPHP), Centers for Disease Control and Prevention (CDC).

Background and Brief Description

Stroke is the fifth leading cause of death in the United States and results in approximately 130,000 deaths per year. Stroke outcomes depend upon the rapid recognition of signs and symptoms of stroke, prompt transport to a treatment facility, and early rehabilitation. Improving outcomes requires a coordinated systems approach involving pre-hospital care, emergency department and hospital care, rehabilitation, prevention of complications, and ongoing secondary prevention.

Through the Paul Coverdell National Acute Stroke Program (PCNASP), CDC has been continuously working to measure and improve acute stroke care using well-known quality improvement strategies coupled with frequent evaluation of results. PCNASP awardees are state health departments who work with participating hospitals and EMS agencies in their jurisdictions to improve quality of care for stroke patients.

Nine awardees were funded under five-year cooperative agreements effective July 1, 2015. Awardees and their selected hospital partners will systematically collect and report data on stroke care data across the continuum of care which includes pre-hospital (EMS), in-hospital, and post-hospital phases of care. In addition, PCNASP awardees will also request information from hospitals that admit and treat stroke patients in awardees' jurisdictions. This information is needed to understand the capacity and infrastructure of the systems for acute stroke care.

Hospitals will transmit pre-hospital and post-hospital information to their awardee quarterly. The average burden per response is 15 minutes for pre-hospital and post-hospital information transmission. There is no burden for hospitals to transmit in-hospital data, because awardees use their own processes to extract in-hospital data from hospitals' electronic systems. Each hospital will collect and transmit hospital inventory information to its PCNASP awardee annually. This average burden per response is 30 minutes.

The average burden per response for awardees to transmit pre-hospital, in-hospital, and post-hospital data to CDC will vary between 30-90 minutes. The burden will be 30 minutes each for independent submission of information relating to the pre-hospital, in-hospital, and post-hospital phases of patient care. Alternatively, the burden will be 90 minutes for awardees who transmit pre-, in-, and post-hospital data as one combined file. CDC accepts file transmissions as individual phases or combined. In addition, each PCNASP awardee will prepare an annual aggregate hospital inventory file for transmission to CDC. The average burden of reporting hospital inventory information for each PCNASP awardee is eight hours per response.

All patient, hospital, and EMS provider data that is submitted to CDC by PCNASP awardees will be de-identified and occur through secure data systems. Proposed data elements and quality indicators may be updated over time to include new or revised items based on evolving recommendations and standards in the field to improve the quality of stroke care.

OMB approval is requested for three years. Participation is voluntary and there are no costs to respondents other than their time. The total estimated annualized burden hours are 382.

Estimated Annualized Burden Hours
Type of respondent | Form name | Number of respondents | Number of responses per respondent | Average burden per response (in hours)
PCNASP Hospital Partners | Pre-hospital quality of care data | 78 | 4 | 15/60
| Post-hospital quality of care data | 20 | 4 | 15/60
| Hospital inventory data | 315 | 1 | 30/60
PCNASP Awardee | Pre-hospital quality of care data | 9 | 4 | 30/60
| In-hospital quality of care data | 9 | 4 | 30/60
| Post-hospital quality of care data | 9 | 4 | 30/60
| Hospital inventory data | 9 | 1 | 8

Leroy A. Richardson,
Chief, Information Collection Review Office, Office of Scientific Integrity, Office of the Associate Director for Science, Office of the Director, Centers for Disease Control and Prevention.

[FR Doc. 2015-30061 Filed 11-24-15; 8:45 am]

BILLING CODE 4163-18-P